FEDERAL MINE SAFETY AND HEALTH REVIEW COMMISSION

Sunshine Act Notice

May 31, 2016.

TIME AND DATE: 2:00 p.m., Tuesday, June 14, 2016.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor on behalf of McGary, et al. v. The Marshall County Coal Company, et al., Docket Nos. WEVA 2015-583-D, et al. (Issues include whether the Judge erred in ruling that certain statements by mine management constituted an interference with miners' safety rights.)

Any person attending this meeting who requires special accessibility features and/or auxiliary aids, such as sign language interpreters, must inform the Commission in advance of those needs. Subject to 29 CFR § 2706.150(a)(3) and § 2706.160(d).

CONTACT PERSON FOR MORE INFO: Emogene Johnson (202) 434-9935/(202) 708-9300 for TDD Relay/1-800-877-8339 for toll free.

Sarah L. Stewart,
Deputy General Counsel.

[FR Doc. 2016-13118 Filed 5-31-16; 4:15 pm]

BILLING CODE 6735-01-P